ENVIRONMENTAL PROTECTION AGENCY

40 CFR Part 82

[FRL-7477-5]

RIN 2060-AG12

Protection of Stratospheric Ozone: Notice 17 for Significant New Alternatives Policy Program; Correction

AGENCY: Environmental Protection Agency.

ACTION: Notice of acceptability; correction.

SUMMARY: The Environmental Protection Agency published in the Federal Register of December 20, 2002, a Notice of Acceptability related to the Significant New Alternatives Policy (SNAP) program. Additional, new information was recently made available to EPA and provided updated information related to the calculation of the environmental impact of a fire suppression substitute that was listed as an acceptable substitute in the Notice. Based on this new information, EPA is correcting the atmospheric lifetime and global warming potential (GWP) listed for the substitute fire suppression agent. This correction does not change EPA's finding of acceptability, as set forth in the Notice, for use of the substitute in fire protection. This document identifies and makes the above corrections.

DATES: This corrections is effective on April 7, 2003.

ADDRESSES: Information relevant to this correction notice is contained in Air Docket A-2002-08, 1301 Constitution Avenue, NW.; U.S. Environmental Protection Agency, Mail Code 6102T; Washington, DC, 20460. The docket reading room is located at the address above in room B102 in the basement. Reading room telephone: (202) 566-1744, facsimile: (202) 566-1749; Air docket staff telephone: (202) 566-1742, facsimile: (202) 566-1741. You may inspect the docket between 8:30 a.m. and 4:30 p.m. weekdays. As provided in 40 CFR part 2, a reasonable fee may be charged for photocopying.

FOR FURTHER INFORMATION CONTACT: Bella Maranion by telephone at (202) 564-9749, by fax at (202) 565-2155, by e-mail at maranion.bella@epa.gov, or by mail at U.S. Environmental Protection Agency, Mail Code 6205J, Washington, D.C. 20460. Overnight or courier deliveries should be sent to the office location at 501 3rd Street, NW., Washington, DC, 20001. Further information can be found by calling the Stratospheric Protection Hotline at (800) 296-1996, or by viewing EPA's Ozone Depletion World Wide Web site at http://www.epa.gov/ozone/title6/snap/.

SUPPLEMENTARY INFORMATION: The Environmental Protection Agency published in the Federal Register of December 20, 2002 (67 FR 77927), a Notice of Acceptability related to the Significant New Alternatives Policy (SNAP) program. After publication of FR Doc. 02-32130 on December 20, 2002, additional, new information was recently made available to EPA provided updated information related to the calculation of the environmental impact of a fire suppression substitute that was listed as an acceptable substitute in the notice. Based on this new information, EPA is correcting the atmospheric lifetime and global warming potential (GWP) listed for C6-perfluoroketone, a substitute fire suppression agent. EPA's evaluation of this new information is available in EPA air docket A-2002-08 at the address described above under ADDRESSES. This correction does not change EPA's finding of acceptability for use of C6-perfluoroketone as a substitute for halon 1301 in total flooding fire suppression applications in both normally occupied and unoccupied areas.

In FR Doc. 02-32130, published on December 20, 2002 (67 FR 77927), under “Supplementary Information,” section I “Listing of Acceptable Substitutes,” make the following corrections:

1. On p. 77931, in the first full paragraph in the third column, under the heading “Environmental Information,” correct the sentence to read “C6-perfluoroketone has no ozone depletion potential, a global warming potential of between four and seven relative to CO2 over a 100-year time horizon, and an atmospheric lifetime of up to two weeks.”

2. On p. 77932, in the first paragraph of the first column, under the heading “Comparison to Other Fire Suppressants,” correct the second sentence to read “With no ozone-depletion potential, a global warming potential of between four and seven, and an atmospheric lifetime of up to two weeks, C6-perfluoroketone provides an improvement over use of halon 1301, hydrochlorofluorocarbons (HCFCs) and hydrofluorocarbons (HFCs) in fire protection.”

Dated: March 25, 2003.
Drusilla Hufford,
Director, Global Programs Division.

[FR Doc. 03-8367 Filed 4-4-03; 8:45 am]

BILLING CODE 6560-50-P